DEPARTMENT OF HEALTH AND HUMAN SERVICES AND

DEPARTMENT OF AGRICULTURE

Announcement of Fifth Meeting of 2005 Dietary Guidelines Advisory Committee

AGENCIES: U.S. Department of Health and Human Services (HHS), Office of Public Health and Science; and U.S. Department of Agriculture (USDA), Food, Nutrition and Consumer Services and Research, Education and Economics.

ACTION: Notice.

SUMMARY: The U.S. Department of Health and Human Services and the U.S. Department of Agriculture provide notice of the final meeting of the Committee.

DATES: The Committee will meet on August 11, 2004, 7:30 a.m. to 5:30 p.m.

ADDRESSES: The meeting will be held at the Omni Shoreham, located at 2500 Calvert Street, NW., Washington, DC 20008, in the Palladian Room. The closest metro station to the meeting location is Woodley Park-Zoo/Adams Morgan station. Limited parking is available at the hotel.

FOR FURTHER INFORMATION CONTACT: HHS Co-Executive Secretary: Kathryn McMurry (phone 202-690-7102), HHS Office of Disease Prevention and Health Promotion, Office of Public Health and Science, Room 738-G, 200 Independence Ave., SW., Washington, DC 20201. USDA Co-Executive Secretaries: Carole Davis (phone 703-305-7600), USDA Center for Nutrition Policy and Promotion, 3101 Park Center Drive, Room 1034, Alexandria, Virginia 22302, or Pamela Pehrsson (phone 301-504-0716), USDA Agricultural Research Service, Beltsville Agricultural Research Center-West, Building 005, Room 309A, Beltsville, Maryland 20705. Additional information is available on the Internet at http://www.health.gov/dietaryguidelines.

SUPPLEMENTARY INFORMATION: Dietary Guidelines Advisory Committee: The thirteen-member Committee appointed by the two Departments is chaired by Janet King, Ph.D., R.D., Children's Hospital Oakland Research Institute, Oakland, California. Other members are Lawrence J. Appel, M.D., M.P.H., Johns Hopkins Medical Institutions, Baltimore, Maryland; Yvonne L. Bronner, Sc.D., R.D., L.D., Morgan State University, Baltimore, Maryland; Benjamin Caballero, M.D., Ph.D., Johns Hopkins University Bloomberg School of Public Health, Baltimore, Maryland; Carlos A. Camargo, M.D., Dr.P.H., Harvard University, Boston, Massachusetts; Fergus M. Clydesdale, Ph.D., University of Massachusetts, Amherst, Amherst, Massachusetts; Vay Liang W. Go, M.D., University of California at Los Angeles, Los Angeles, California; Penny M. Kris-Etherton, Ph.D., R.D., Pennsylvania State University, University Park, Pennsylvania; Joanne R. Lupton, Ph.D., Texas A&M University, College Station, Texas; Theresa A. Nicklas, Dr.P.H., M.P.H., L.N., Baylor College of Medicine, Houston, Texas; Russell R. Pate, Ph.D., University of South Carolina, Columbia, South Carolina; F. Xavier Pi-Sunyer, M.D., M.P.H., Columbia University College of Physicians and Surgeons, New York, New York; and Connie M. Weaver, Ph.D., Purdue University, West Lafayette, Indiana.

Purpose of Meeting: The appointment of the Committee reflects the commitment by HHS and USDA to provide sound and current dietary guidance to consumers. The National Nutrition Monitoring and Related Research Act of 1990 (Pub. L. 101-445, Title III) requires the Secretaries of HHS and USDA to publish the Dietary Guidelines for Americans at least every five years. During its first meeting, the Dietary Guidelines Advisory Committee decided the science has changed since the 2000 edition of Nutrition and Your Health: Dietary Guidelines for Americans and further evaluation of the science was necessary. Therefore, it has conducted a review of current scientific and medical knowledge and will provide a technical report of any recommendations to the Secretaries for the 2005 edition. The agenda will include review and discussion of the Committee's draft report.

Public Participation at Meeting: The meeting is open to the public. Because space is limited, pre-registration is requested. To pre-register, please e-mail dietaryguidelines@osophs.dhhs.gov, with “Meeting Registration” in the subject line or call MaurLo Baxter at (202) 260-2322 by 5 p.m. E.D.T., August 4, 2004. Registration must include your name, affiliation, and phone number. Visitors must bring proper identification to attend the meeting. If you require a sign language interpreter, please call MaurLo Baxter at (202) 260-2322 by July 28, 2004. Documents pertaining to Committee deliberations for the final meeting, including the draft report, will be available for public inspection and copying in Room 738-G, 200 Independence Avenue, SW., Washington, DC, beginning the day before the meeting. All official documents are available for viewing by appointment for the duration of the Committee's term, which terminates after delivery of its final report to the Secretaries. Please call (202) 690-7102 to schedule an appointment to view the documents.

Dated: July 9, 2004.
Penelope S. Royall,
Deputy Assistant Secretary for Health (Disease Prevention and Health Promotion), Department of Health and Human Services.

Dated: July 9, 2004.
Eric J. Hentges,
Executive Director, Center for Nutrition Policy and Promotion, Department of Agriculture.

Dated: July 9, 2004
Caird E. Rexroad Jr.,
Acting Associate Administrator, Agricultural Research Service, Department of Agriculture.

[FR Doc. 04-16131 Filed 7-15-04; 8:45 am]

BILLING CODE 4150-32-P